DEPARTMENT OF ENERGY

Federal Energy Regulatory Commission

[Docket No. AD12-13-000]

Staff Technical Conference on Geomagnetic Disturbances to the Bulk-Power System; Technical Conference Agenda

As announced in the Notice of Technical Conference issued on April 6, 2012, the Commission Staff will hold a technical conference on Monday, April 30, 2012, from 11:00 a.m. to 4:00 p.m. to discuss issues related to the reliability of the Bulk-Power System as affected by geomagnetic disturbances. The conference will explore the risks and impacts from geomagnetically induced currents to transformers and other equipment on the Bulk-Power System, as well as, options for addressing or mitigating the risks and impacts. The agenda for this conference is attached. Commission members will participate in this conference. All interested persons are invited to attend.

The Commission will be accepting written comments regarding the matters discussed at this technical conference. Any person or entity wishing to submit written comments regarding the matters discussed at the conference should submit such comments in Docket No. AD12-13-000, on or before May 21, 2012.

Information on this event will be posted on the Calendar of Events on the Commission's Web site, www.ferc.gov, prior to the event. The conference will be transcribed. Transcripts will be available immediately for a fee from Ace Reporting Company (202-347-3700 or 1-800-336-6646). A free webcast of this event is also available through www.ferc.gov. Anyone with Internet access who desires to listen to this event can do so by navigating to www.ferc.gov' s Calendar of Events and locating this event in the Calendar. The event will contain a link to the webcast. The Capitol Connection provides technical support for webcasts and offers the option of listening to the meeting via phone-bridge for a fee. If you have any questions, visit www.CapitolConnection.org or call 703-993-3100.

Commission conferences are accessible under section 508 of the Rehabilitation Act of 1973. For accessibility accommodations, please send an email to accessibility@ferc.gov or call toll free 1-866-208-3372 (voice) or 202-208-8659 (TTY), or send a FAX to 202-208-2106 with the required accommodations.

For more information about this conference, please contact: Sarah McKinley, Office of External Affairs, Federal Energy Regulatory Commission, 888 First Street NE., Washington, DC 20426, (202) 502-8368, sarah.mckinley@ferc.gov.

Dated: April 20, 2012.
Nathaniel J. Davis, Sr.,
Deputy Secretary.

[FR Doc. 2012-10063 Filed 4-25-12; 8:45 am]

BILLING CODE 6717-01-P